INTERNATIONAL TRADE COMMISSION

[Inv. No. 337-TA-608]

In the Matter of Certain Nitrile Gloves; Notice of Investigation

AGENCY: U.S. International Trade Commission.

ACTION: Institution of investigation pursuant to 19 U.S.C. 1337.

SUMMARY: Notice is hereby given that a complaint was filed with the U.S. International Trade Commission on May 30, 2007, under section 337 of the Tariff Act of 1930, as amended, 19 U.S.C. 1337, on behalf of Tillotson Corporation d/b/a Best Manufacturing Company of Menlo, Georgia. The complaint alleges violations of section 337 in the importation into the United States, the sale for importation, and the sale within the United States after importation of certain nitrile gloves by reason of infringement of U.S. Patent No. Re. 35,616. The complaint further alleges that an industry in the United States exists as required by subsection (a)(2) of section 337.

The complainant requests that the Commission institute an investigation and, after the investigation, issue a permanent general exclusion order and permanent cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://www.usitc.gov/secretary/edis.htm.

FOR FURTHER INFORMATION CONTACT: Vu Q. Bui, Esq., Office of Unfair Import Investigations, U.S. International Trade Commission, telephone (202) 205-2582.

Authority: The authority for institution of this investigation is contained in section 337 of the Tariff Act of 1930, as amended, and in section 210.10 of the Commission's Rules of Practice and Procedure, 19 CFR 210.10 (2006).

Scope of Investigation: Having considered the complaint, the U.S. International Trade Commission, on June 26, 2007, ordered that—

(1) Pursuant to subsection (b) of section 337 of the Tariff Act of 1930, as amended, an investigation be instituted to determine whether there is a violation of subsection (a)(1)(B) of section 337 in the importation into the United States, the sale for importation, or the sale within the United States after importation of certain nitrile gloves by reason of infringement of one or more of claims 1 and 17-19 of U.S. Patent No. Re. 35,616, and whether an industry in the United States exists as required by subsection (a)(2) of section 337;

(2) For the purpose of the investigation so instituted, the following are hereby named as parties upon which this notice of investigation shall be served:

(a) The complainant is—

Tillotson Corporation, d/b/a Best Manufacturing Company, 579 Edison Street, Menlo, Georgia 30731.

(b) The respondents are the following entities alleged to be in violation of section 337, and are the parties upon which the complaint is to be served:

Top Glove Corporation Bhd., Lot 4969, Jalan Teratai, Batu 6, Off Jalan Meru, 41050 Klang, Selangor D.E., Malaysia.

Ansell Ltd., 3/678 Victoria Street, Richmond, Victoria, 3121 Australia.

Beijing Huateng Rubber Plastic, Ciqu Industrial Zone, Tongzhou District, Beijing, China 101111.

Glovco (M) Sdn. Bhd., Lot 760, Jalan Haji Sirat, Off Jalan Meru Klang, 42100, Selangor D.E., Malaysia.

Hartalega Holdings Bhd., Lot 9, Jalan Kuang Bulan, Taman Kepong Industrial Estate, 52100, Kuala Lumpur, Malaysia.

Ideal Healthcare Group Co. Ltd., Bldg. 18, No. 1, South Section of Huacheng (W) Road, Ningbo, China.

JDA (Tianjin) Plastic Rubber Co. Ltd., No. 17 Hai Bin No. 7 Rd, Tianjin Port Free Trade Zone, Tianjin, 300456, China.

Kossan Rubber Industries Bhd., Lot 16632 Batu 5 1/4 Jalan Meru, 41050 Klang, Selangor, D.E., Malaysia.

Laglove (M) Sgn. Bhd., Lot 478, Jalan Simpang Balak, Off B, 4300 Kajang, Selangor, Malaysia.

PT Medisafe Technologies, JL. Batang Kuis, GG Tambak Rejo/PSR IX, Desa Buntu, Bedimbar, Tanjung Marawa, Medan, Sumatera, Utar, Indonesia.

PT Shamrock Manufacturing Corporation, Jalan Permuda No. 11, Medan-20151 North, Sumatra, Indonesia.

Riverstone Resources Sdn. Bhd., Lot 21909, No. 5, Lorong Helang Hindik, Kepong Baru, Industrial Estate, 52100 Kuala Lumpur, Malaysia.

Seal Polymer Industries Bhd., Lot 72706, Jalan, Lahat, Kawasan Perindustrian Buki Merah, 31500 Lahat, Perak, Malaysia.

Smart Glove Holdings Sdn. Bhd., Lot 6487, Batu 5 3/4, Sementajln Kapar, 42100 Klang, Selangor D.E., Malaysia.

Supermax Corporation Bhd., Lot 38, Putra, Industrial Park, Bukit Rahman Putra, 47000, Sungai Buloh, Selangor D.E., Malaysia.

Yee Lee Corporation Bhd., Lot 85 Jalan, Portland, Tasek Industrial Estates, 31400 Ipoh, Perak Darul Ridzuan, Malaysia.

YTY Holdings Sdn. Bhd., Lot 2935B, Kg Batu, 9 Kebun Baru, Jalan Masjid, 42500 Telok, Panglima Garang, Kuala Langat, Selangor, D.E., Malaysia.

Adenna, Inc., 12216 McCann Drive, Santa Fe Springs, California 90670.

Basic Medical Industries Inc., 12390 East End Avenue, Chino, California 91710.

Cypress Medical Products, LLC, c/o Richard M. Horwood, 180 N. Lasalle Street, Suite 3700, Chicago, Illinois 60601.

Darby Group Companies, Inc., 300 Jericho Quadrangle, Jericho, New York 11753.

Dash Medical Gloves, Inc., c/o Robert J. Sullivan, 1018 South 54th Street, Franklin, Wisconsin 53132.

Delta Medical Systems, Inc., d/b/a/ The Delta Group, 6865 Shiloh Road East, Suite 400, Alpharetta, Georgia 30202.

Dentexx/First Medica Infection Control Assoc., 3704C Boren Drive, Greensboro, North Carolina 27407.

Dynarex Corp., 10 Glenshaw Street, Orangeburg, New York 10962.

Liberty Glove and Safety Co. c/o Sonia Heh, 21880 Buckskin Drive, Walnut, California 91789.

Magla Products LLC, 120 N. 3rd Street, Albemarle, North Carolina 28001.

Protective Industrial Products, Inc., c/o Germaine Curtin, 10715 Indian Village Drive, Alpharetta, Georgia 30022.

QRP Inc. d/b/a QRP Gloves, Inc., c/o Daniel J. Quigley, 2730 E. Broadway #160, Tucson, Arizona 85716.

Tronex International, Inc., One Tronex Centre, 3 Luger Road, Denville, New Jersey 07834.

West Chester Holdings, Inc., 100 Corridor Park Drive, Monroe, Ohio 45050.

(c) The Commission investigative attorney, party to this investigation, is Vu Q. Bui, Esq., Office of Unfair Import Investigations, U.S. International Trade Commission, 500 E Street, SW., Suite 401, Washington, DC 20436; and

(3) For the investigation so instituted, the Honorable Charles E. Bullock is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of a general exclusion order or cease and desist order or both directed against the respondent.

Issued: June 29, 2007.
By order of the Commission.
Marilyn R. Abbott,
Secretary to the Commission.

[FR Doc. E7-13118 Filed 7-5-07; 8:45 am]

BILLING CODE 7020-02-P